DEPARTMENT OF LABOR

Employment and Training Administration

Comment Request for Information Collection for Information Collection for the Data Validation Requirement for Employment and Training Programs; Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data validation information for the following employment and training programs: Workforce Investment Act (WIA) Title IB, Wagner-Peyser, Trade Adjustment Assistance (TAA), National Farmworkers Jobs Program (NFJP), and Senior Community Service Employment Program (SCSEP). The current expiration date is May 31, 2014.

Please note that the data submission processes within the new data validation software for Wagner-Peyser and WIA Title IB were implemented in Program Year (PY) 2012 and PY 2013 for reporting and the underlying data validation methodology is not being modified. However, the system is still coming online and the data element validation functionality in the new enterprise data validation and reporting system will not be implemented by the current expiration date for this data collection (May 31, 2014). ETA believes the software will be completed and states will have experience with using it by the end of 2014. At that time, ETA will report to the Office of Management and Budget (OMB) on the results, per the OMB Notice of Action in 2012 approving the implementation of the software.

DATES: Written comments must be submitted to the office listed in the addresses section below on or before February 24, 2014.

ADDRESSES: Submit written comments to the U.S. Department of Labor, Employment and Training Administration, Office of Policy Development and Research, 200 Constitution Avenue NW., Room N-5641, Washington, DC 20210, Attention: Karen A. Staha. Telephone number: (202) 693-2917 (this is not a toll-free number). Fax: (202) 693-3490. Email: staha.karen@dol.gov A copy of the proposed information collection request (ICR) can be obtained by contacting the person listed above.

SUPPLEMENTARY INFORMATION:

I. Background

The accuracy and reliability of program reports submitted by States and grantees using Federal funds are fundamental elements of good public administration and are necessary tools for maintaining and demonstrating system integrity. States and grantees receiving funding under WIA Title IB, Wagner-Peyser Act, TAA, and the Older Americans Act are required to maintain and report accurate program and financial information (WIA section 185 (29 U.S.C. 2935) and WIA Regulations 20 CFR 667.300(e)(2); Wagner-Peyser Act section 10 (29 U.S.C. 49i), Older Americans Act section 503(f)(3) and (4) (42 U.S.C. 3056a(f)(3) and (4)), and TAA Regulations 20 CFR 617.57).

Data Validation. The data validation requirement for employment and training programs strengthens the workforce system by ensuring that accurate and reliable information on program activities and outcomes is available. Data validation is intended to accomplish the following goals:

• Ensure that critical performance data are valid and accurate.

• Detect and identify specific problems with a State's or grantee's reporting processes, including the software used for compiling this information, to enable the State or grantee to correct any problems.

• Help States and grantees analyze the causes of performance successes and failures by displaying participant data organized by performance outcomes. In addition, the process enables States and grantees to calculate error rates by means of randomly selected validation subsamples of the complete set of records.

Data validation consists of two parts:

1. Report validation ensures the validity of aggregate reports submitted to ETA by requiring that States use the data validation software to calculate the reports in a uniform and consistent manner. Report validation is conducted by processing each State's complete file of participant records and automatically generating the reports submitted by the State or grantee. States and grantees are required to certify the accuracy of the reports generated by the software before they can be accepted by ETA.

2. Data element validation assesses the accuracy of participant data records. Data element validation is conducted via comprehensive manual reviews of sampled participant records against source documentation in order to ensure accuracy and compliance with Federal definitions.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without revisions.

Title: Data Validation Requirement for Employment and Training Programs.

OMB Number: 1205-0448.

Affected Public: State, local and tribal government entities and private non-profit organizations.

Form(s): Workforce Investment Act Enterprise Data Reporting and Validation System (EDRVS) User Handbook, Labor Exchange EDRVS Software Users Guide, NFJP Data Validation Handbook, TAA Data Validation Handbook.

Total Annual Respondents: 179 (53 states, 52 NFJP and 74 SCSEP grantees).

Annual Frequency: Complete data validation annually.

Total Annual Responses: 285 (3 responses each for the 53 states, 1 response for each of the 52 NFJP grantees, and 1 response for each of the 74 SCSEP grantees).

Average Time per Response: 218 hours.

Estimated Total Annual Burden Hours: 62,174.

Total Additional Annual Burden Cost for Respondents: $0.

Total Estimated Additional Annual Other Costs Burden: $0.

Comments submitted in response to this comment request will be summarized and/or included in the request for OMB approval of the ICR; they will also become a matter of public record.

Signed at Washington, DC, this 12th day of December, 2013
Eric Seleznow,
Acting Assistant Secretary, Employment and Training, Labor.

[FR Doc. 2013-30639 Filed 12-23-13; 8:45 am]

BILLING CODE 4510-FN-P